DEPARTMENT OF TRANSPORTATION

Federal Aviation Administration

Notice of Release From Federal Surplus Property and Grant Assurance Obligations at the New Castle County Airport (ILG), Wilmington, DE

AGENCY: Federal Aviation Administration (FAA) DOT.

ACTION: Notice of request to release airport land.

SUMMARY: The FAA proposes to rule and invites public comment on the application for a release of approximately 1.0719 acres of federally obligated airport property at New Castle County Airport (ILG), Wilmington, DE, from the National Emergency Use Provision contained in a Surplus Property Agreement, dated April 28, 1949, and from conditions, reservations, and restrictions contained in Airport Improvement Program grants that would restrict the use of said land to aeronautical purposes. The request includes 0.8994 acres of land to be released for disposal for a Right-Of-Way and 0.1725 acres be released from aeronautical to non-aeronautical use for a Permanent Easement. This acreage is a portion of the land at New Castle County Airport that is subject to the Surplus Property Agreement. Both releases are requested to permit improvements, including the widening of State Route 141. The proposed use of land after the release will be compatible with the airport and will not interfere with the airport or its operation.

DATES: Comments must be received on or before April 12, 2019.

ADDRESSES: Comments on this application may be mailed or delivered to the following address: Jim Salmon, Public Information Officer, Delaware River and Bay Authority, P.O. Box 71, New Castle, DE. And at the FAA Harrisburg Airports District Office: Rick Harner, Acting Manager, Harrisburg Airports District Office, 3905 Hartzdale Dr., Suite 508, Camp Hill, PA 17011.

FOR FURTHER INFORMATION CONTACT: Brian Gearhart, Project Manager, Harrisburg Airports District Office, location listed above. The request to release airport property may be reviewed in person at this same location.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements. The following is a brief overview of the request:

The Airport Authority requests the release of a total of 0.8994 acres for sale required for Right-of-Way for the State Route 141 widening project, and 0.1725 acres for change in use for a Permanent Easement. The purpose of the project is to address safety, operational, capacity and condition needs within the State Route 141 and Interstate 95 interchange area. Specifically, State Route 141 is being widened to accommodate three lanes of traffic in each direction near the New Castle County Airport and the airport property is needed at the intersection of Commons Boulevard and State Route 141. The project is being coordinated by the Delaware Department of Transportation. There are two parcels included in the proposed total 1.0719-acre land release obtained from the United States pursuant to the Surplus Property Act of 1944 and the Reorganization Plan No. 1 of 1947. The existing property use is that of dedicated airport property. As shown on the Airport Layout Plan, the property is not needed now or in the future for airport development as it is small areas running adjacent to the existing State Route 141. The proposed use of the property will not interfere with the airport or its operation. Proceeds from sale of the property will be utilized in accordance with FAA's Policy and Procedures Concerning the Use of Airport Revenue, published in the Federal Register on February 16, 1999.

Interested persons are invited to comment on the proposed lease. All comments will be considered by the FAA to the extent practicable.

Issued in Camp Hill, Pennsylvania, March 7, 2019.
Rick Harner,
Acting Manager, Harrisburg Airports District Office.

[FR Doc. 2019-04649 Filed 3-12-19; 8:45 am]

BILLING CODE 4910-13-P